DEPARTMENT OF THE INTERIOR

Bureau of Reclamation

Opening an Area to Off Road Vehicle Use on Bureau of Reclamation Lands at Belle Fourche Reservoir, SD

AGENCY: Bureau of Reclamation, DOI.

ACTION: Notice.

SUMMARY: In accordance with 43 CFR 420 “Off Road Vehicle Use”, the Bureau of Reclamation is opening a 35 acre area to off-road-vehicle (ORV) use at Belle Fourche Reservoir. The legal description of the ORV area is: T. 9 N., R. 4 E., Section 18, SE1/4 NE1/4 and NE1/4 SE1/4. The ORV area will allow Reclamation to direct and concentrate ORV use and effectively enforce elimination of unmanaged ORV use at other areas of the reservoir. The ORV area would be open to dirt bikes and 4-wheelers and other similar size vehicles but not to full size vehicles. Reclamation will provide for law enforcement patrols and inspections of the area.

Regulations for the ORV area will be posted at the entrance. The perimeter will be marked by signs or fences. ORV use will only be allowed within this area. Outside of the ORV area, motorized vehicles will be restricted to established gravel or paved roads and must be legally licensed and operated by a licensed driver in accordance with South Dakota State law. The regulations for the Belle Fourche Reservoir ORV area are as follows:

Requirements—vehicles: Each off-road vehicle that is operated on Reclamation lands shall meet the following requirements: (a) It shall conform to applicable State laws and vehicle registration requirements. (b) It shall be equipped with a proper muffler and spark arrestor in good working order and in constant operation. The spark arrestor must conform to Forest Service Spark Arrestor Standard 5100-1a, and there shall be no muffler cutout, bypass, or similar device. (c) It shall have adequate brakes and, for operation from dusk to dawn, working headlights and taillights.

Requirements—operators: (a) Operators shall comply with any applicable State laws pertaining to off-road vehicles. (b) Each operator of an off-road vehicle operated on Reclamation lands shall possess a valid motor vehicle operator's permit or license; or, if no permit or license is held, he/she shall be accompanied by or under the immediate supervision of a person holding a valid permit or license. (c) During the operation of snowmobiles, trail bikes, and any other off road vehicle the operator shall wear safety equipment, generally accepted or prescribed by applicable State law or local ordinance for use of the particular activity in which he/she is participating. (d) No person may operate an off-road vehicle (1) in a reckless, careless or negligent manner; (2) in excess of established speed limits; (3) while under the influence of alcohol or drugs; (4) in a manner likely to cause irreparable damage or disturbance of the land, wildlife, vegetative resources, or archeological and historic values of resources; or (5) in a manner likely to become an unreasonable nuisance to other users of Reclamation or adjacent lands.

DATES: The ORV Area will be open for public use by May 23, 2008.

ADDRESSES: Copies of the public scoping notice that was issued for this proposal, map of the ORV area, and copies of the regulations can be obtained by writing to: Area Manager, Bureau of Reclamation, Dakotas Area Office, P.O. Box 1017, Bismarck, ND 58502.

FOR FURTHER INFORMATION CONTACT: Joseph E. Hall, Chief, Resource Management Division, Bureau of Reclamation, Dakotas Area Office, P.O. Box 1017, Bismarck, ND 58502; Telephone: 701-221-1208; or Fax to 701-250-4326.

SUPPLEMENTARY INFORMATION: The public has been notified of this action through scoping letters sent to agencies, adjacent landowners, and other interested individuals, newspaper articles, and a public presentation. Reclamation will inspect the ORV area regularly in accordance with 43 CFR 420.21(c). The ORV area shall be closed if it is causing adverse effects on the soil, vegetation, wildlife, wildlife habitat, or cultural or historical resources. It also shall be monitored to determine if it is adversely affecting water delivery from Belle Fourche Reservoir, adjacent landowners, or other uses of the reservoir.

Dated: May 22, 2008.
Dennis E. Breitzman,
Area Manager, Dakotas Area Office.

[FR Doc. E8-11960 Filed 5-28-08; 8:45 am]

BILLING CODE 4310-MN-P